DEPARTMENT OF COMMERCE

National Oceanic and Atmospheric Administration

RIN 0648-AW65

Atlantic Highly Migratory Species; Atlantic Shark Management Measures

AGENCY: National Marine Fisheries Service (NMFS), National Oceanic and Atmospheric Administration (NOAA), Commerce.

ACTION: Stock Status Determinations; Notice of Intent (NOI) to prepare an Environmental Impact Statement (EIS); request for comments.

SUMMARY: Based on the 2007 small coastal sharks (SCS) stock assessment, NMFS is declaring blacknose sharks to be overfished with overfishing occurring. As such, NMFS announces its intent to prepare an EIS under the National Environmental Policy Act (NEPA). This EIS would assess the potential effects on the human environment of the proposed action taken to rebuild blacknose sharks and prevent overfishing per the Magnuson-Stevens Fishery Conservation and Management Act (Magnuson-Stevens Act). The EIS would amend the 2006 Consolidated Highly Migratory Species (HMS) Fishery Management Plan (FMP) and examine management alternatives available to rebuild blacknose sharks. NMFS is requesting comments on a range of commercial and recreational management measures in both directed and incidental fisheries including, but not limited to, quota levels, regional and seasonal quotas, retention limits, minimum sizes, and time/area closures.

DATES: Comments on this action must be received no later than 5 p.m., local time, on August 5, 2008.

ADDRESSES: Written comments on this action should be mailed to Karyl Brewster-Geisz, Highly Migratory Species Management Division by any of the following methods:

• Email: SCS_Scoping@noaa.gov.

• Written: 1315 East-West Highway, Silver Spring, MD 20910. Please mark the outside of the envelope “Scoping Comments on Amendment 3 to HMS FMP.”

• Fax: (301) 713-1917.

For a copy of the stock assessments, please contact Jessica Beck (301) 713-2347.

FOR FURTHER INFORMATION CONTACT: Karyl Brewster-Geisz (301) 713-2347 or Jackie Wilson (240) 338-3936.

SUPPLEMENTARY INFORMATION:

The Atlantic shark fisheries are managed under the authority of the Magnuson-Stevens Act. The Consolidated HMS FMP is implemented by regulations at 50 CFR part 635.

Determination of Overfished Shark Fisheries

NMFS' determination of the status of a stock relative to overfishing and an overfished condition is based on both the removal of fish from the stock through overfishing (the exploitation rate) and the current stock size. Thresholds used to determine the status of Atlantic HMS are fully described in Chapter 3 of the 1999 FMP for Atlantic Tunas, Swordfish, and Shark. A species is considered overfished when the current biomass is less than the minimum stock size threshold. The minimum stock size threshold is determined based on the natural mortality of the stock and the biomass at maximum sustainable yield (BMSY). Maximum sustainable yield is the maximum long-term average yield that can be produced by a stock on a continuing basis. The biomass can be lower than BMSY, and the stock not declared overfished as long as the biomass is above the biomass at the minimum stock size threshold.

Overfishing may be occurring on a species if the current fishing mortality is greater than the fishing mortality (F) at maximum sustainable yield (FMSY) (F>FMSY). In the case of F, the maximum fishing mortality threshold is FMSY. Thus, if F exceeds FMSY, the stock is experiencing overfishing.

A. Small Coastal Sharks (SCS)

The latest 2007 stock assessment of SCS in the U.S. Atlantic and Gulf of Mexico was recently completed (72 FR 63888, November 13, 2007). This peer-reviewed assessment, which was conducted according to the Southeast Data, Assessment, and Review (SEDAR) process, provides an update from the 2002 stock assessment on the status of SCS stocks and projects their future abundance under a variety of catch levels in the U.S. Atlantic Ocean, Gulf of Mexico, and Caribbean Sea. The 2007 assessment includes updated catch estimates, new biological data, and a number of fishery-independent catch rate series, as well as fishery-dependent catch rate series.

The peer reviewers determined that the data used in the 2007 stock assessment of the SCS complex and the individual species within the complex were considered the best available at the time and the assessment was considered adequate. However, because the species were individually assessed, the peer reviewers recommended using species-specific results rather than on the aggregated SCS complex results. As a result of this recommendation, and because the stock assessment covered all SCS species, NMFS will no longer provide status updates or determinations on the SCS complex as a whole.

B. Finetooth Sharks

According to the 2002 SCS stock assessment, finetooth sharks were experiencing overfishing. However, the 2007 SCS stock assessment found that finetooth sharks are not overfished (N2005/NMSY = 1.80) and overfishing is not occurring (F2005/FMSY = 0.17) (Table 1). Based on this, NMFS has determined that finetooth sharks are not overfished and no overfishing is occurring. However, NMFS also notes that while the peer reviewers agreed that it is reasonable to conclude that the stock is not currently overfished, they also indicated that given the limited data available on the population dynamics for finetooth, management should be cautious.

C. Blacknose Sharks

The 2002 SCS stock assessment found that blacknose were not overfished and overfishing was not occurring. However, the 2007 stock assessment for blacknose sharks indicates that spawning stock fecundity (SSF), i.e., number of reproductive-age individuals in a population, in 2005 and during 2001-2005 was smaller than SSFMSY (SSF2005/SSFMSY = 0.48) (Table 1). Therefore, NMFS has determined that blacknose sharks are overfished. In addition, the estimate of fishing mortality rate in 2005 and the average for 2001-2005 was greater than FMSY, and the ratio was substantially greater than 1 in both cases (F2005/FMSY = 3.77). Based on these results, NMFS has determined that blacknose sharks are experiencing overfishing. The assessment recommended a rebuilding plan with 70 percent probability of recovering to SSFMSY by 2019. This recommended rebuilding time is 11 years from 2009. A constant TAC of 19,200 individuals would lead to rebuilding with 70 percent probability by 2027. The constant TAC also allows for rebuilding with 50 percent confidence by 2024.

D. Atlantic Sharpnose Sharks

The 2002 SCS stock assessment found that Atlantic sharpnose sharks were not overfished and overfishing was not occurring. The 2007 assessment for Atlantic sharpnose sharks also indicated that the stock is not overfished (SSF2005/SSFMSY = 1.47) and that no overfishing is occurring (F2005/FMSY = 0.74) (Table 1). Based on these results, NMFS has determined that the Atlantic sharpnose sharks are not overfished with no overfishing occurring. However, because estimates of F from the assessment indicate that F is close to, but presently below, FMSY (i.e., overfishing is not occurring), the peer reviewers suggest setting a threshold for F to keep it below the FMSY threshold to prevent overfishing in the future.

E. Bonnethead Sharks

Based on the bonnethead stock assessment, the peer reviewers determined that bonnethead sharks are not overfished (SSF2005/SSFMSY = 1.13). In addition, the estimate of fishing mortality rate in 2005 was less than FMSY, (F2005/FMSY = 0.61) (Table 1), thus overfishing was not occurring. As a result, NMFS has determined that bonnethead sharks are not overfished with no overfishing occurring. However, fishing mortality rates in the recent past have fluctuated above and below FMSY.

Copies of the 2007 SCS stock assessment are available for review (see ADDRESSES).

Table 1. Summary Table of Biomass and Fishing Mortality for Small Coastal Sharks SCS).
Source: SEDAR 13 Stock Assessment Panel, July 9, 2007. Age-structured State-Space Age-Structured Production Models (SPASMs) were used for bonnethead, Atlantic sharpnose, and blacknose sharks. Surplus production Bayesian Surplus Production (BSP) models were used for the SCS complex and finetooth sharks.
Species | Current Relative Biomass Level* | Current Biomass (N2005) | Stock Abundance (NMSY) | Minimum Stock Size Threshold (MSST) | Current Relative Fishing Mortality Rate (F2005/FMSY) | Maximum Fishing Mortality Threshold (FMSY) | Outlook
Atlantic Sharpnose Sharks | 1.47 (SSF2005/SSFMSY) | 5.96E+06 | 4.45E+06 | 4.09E+06 | 0.74 | 0.19 | Not overfished; overfishing is not occurring
Blacknose Sharks | 0.48 (SSF2005/SSFMSY) | 3.49E+05 | 5.7E+05 | 4.3E+05 | 3.77 | 0.07 | Overfished; Overfishing is occurring
Bonnethead Sharks | 1.13 (SSF2005/SSFMSY) | 1.59E+06 | 1.92E+06 | 1.4E+06 | 0.61 | 0.31 | Not overfished; overfishing is not occurring
Finetooth Sharks | 1.80 (N2005/NMSY) | 6.00E+06 | 3.20E+06 | 2.4E+06 | 0.17 | 0.03 | Not overfished; Overfishing is not occurring
*Spawning stock fecundity (SSF) or spawning stock number (SSN) was used as a proxy of biomass when biomass (B) does not influence pup production in sharks. For finetooth stocks, N was used to estimate biomass levels due to data limitations; therefore, only surplus production models were run.

Request for Comments

Currently, both commercial and recreational fishermen may target Atlantic sharpnose, blacknose, finetooth, and bonnethead sharks. Commercial regulations for SCS species include, but are not limited to, no retention limit for directed permit holders, 16 pelagic and SCS species combined per vessel per trip for incidental permit holders, and annual quota of 454 mt dw split between three regions (North Atlantic, South Atlantic, and Gulf of Mexico). Amendment 2 to the Consolidated HMS FMP proposed combining the SCS regions into one (71 FR 41392). Recreational regulations for SCS species include, but are not limited to, retention limit of 1 shark per vessel per trip with a 4.5-ft (54-in) fork length minimum size, plus 1 Atlantic sharpnose and 1 bonnethead per person per trip (no minimum size).

NMFS anticipates changes to shark management as a result of the latest SCS stock assessment and requests comments on a variety of management options for this action. Specifically, NMFS requests comments on commercial management options including, but not limited to, quota levels, regional and seasonal quotas, trip limits, minimum sizes, quota monitoring, authorized gears, permit structure, and prohibited species. In addition, NMFS is seeking comments on recreational management options including, but not limited to, retention limits, minimum sizes, authorized gears, and landing requirements. NMFS also seeks comments on display quotas and collection of sharks through exempted fishing permits, display permits, and scientific research permits. Comments received on this action will assist NMFS in determining the options for rulemaking to conserve and manage shark resources and shark fisheries, consistent with the Magnuson-Stevens Act and the Consolidated HMS FMP. Specifically, comments are requested on management measures to reduce fishing mortality on blacknose sharks in shrimp trawl fisheries because a significant proportion of fishing mortality is occurring in these fisheries as bycatch.

NMFS will hold scoping meetings to gather public comment on the implementation of new management measures for SCS (time and location details of which will be announced in a subsequent Federal Register notification).

Based on the 2007 stock assessment, NMFS believes the implementation of new management measures via an amendment to the Consolidated HMS FMP is necessary to rebuild blacknose sharks. NMFS anticipates completing this amendment and any related documents by January 1, 2010.

Dated: May 1, 2008.
Emily H. Menashes
Acting Director, Office of Sustainable Fisheries, National Marine Fisheries Service.

[FR Doc. 08-1225 Filed 5-2-08; 2:04 pm]

BILLING CODE 3510-22-S